DEPARTMENT OF AGRICULTURE

Submission for OMB Review; Comment Request

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by August 16, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Housing Service

Title: 7 CFR 3550—Direct Single Family Housing Loan and Grant Program, HB-1-3550, HB-2-3550.

OMB Control Number: 0575-0172.

Summary of Collection: USDA Rural Development (RD) is committed to helping improve the economy and quality of life in rural America. RD's Rural Housing Service (RHS or Agency) offers a variety of programs to build or improve housing and essential community facilities in rural areas. The Housing Act of 1949 provides the authority for the RHS' direct single family housing loan and grant programs. The programs provide eligible applicants with financial assistance to own adequate but modest homes in rural areas. 7 CFR part 3550 sets forth the programs' policies and the programs' procedures can be found in its accompanying handbooks (Handbook-1-3550 and Handbook-2-3550). To originate and service direct loans and grants that comply with the programs' statute, policies, and procedures, RHS must collect information from low- and very low-income applicants, third parties associated with or working on behalf of the applicants, borrowers, and third parties associated with or working on behalf of the borrowers. RHS will collect information using several forms.

Need and Use of the Information: RHS will collect information to verify program eligibility requirements; continued eligibility requirements for borrower assistance; servicing of loans; eligibility for special servicing assistance such as: Payment subsidies, moratorium (stop) on payments, delinquency workout agreements; liquidation of loans; and, debt settlement. The information is used to ensure that the direct Single Family Housing Programs are administered in a manner consistent with legislative and administrative requirements. Without the information RHS would be unable to determine if a borrower would qualify for services or if assistance has been granted to which the customer would not be eligible under current regulations and statutes.

Description of Respondents: Individuals or households; Business or other for-profit; Not-for-profit institutions.

Number of Respondents: 106,300.

Frequency of Responses: Reporting: On occasion; Annually.

Total Burden Hours: 284,013.

Title: Rural Community Development Initiative (RCDI).

OMB Control Number: 0575-0180.

Summary of Collection: Congress first authorized the Rural Community Development Initiative (RCDI) in 1999 with an appropriation of $6 million under the Rural Community Advancement Program (Pub. L. 106-78, which was amended by the Consolidated Appropriations Act, 2016 (Pub. L. 114-113)). The Community Facilities Division under the Rural Housing Service (RHS) administers this grant program. The intent of the RCDI grant program is to develop the capacity and ability of rural area recipients to undertake projects through a program of financial and technical assistance provided by qualified intermediary organizations. Intermediaries may be private or public (including tribal) organizations. Intermediaries are required to provide matching funds in an amount equal to the RCDI grant. Eligible recipients are nonprofit organizations, low-income rural communities, or federally recognized tribes.

Need and Use of the Information: The information will be collected from applicants (intermediary organizations applying for the grant), grantees (intermediary organizations that are awarded the grant), recipients (entities that receive assistance from the intermediary), and beneficiaries (entities or individuals that benefit from assistance provided by the recipient) by RHS staff in the National Office and Rural Development field offices. This information is used to determine applicant and recipient eligibility, project feasibility, and to ensure that grantees operate on a sound basis and use grant funds for authorized purposes. The Notice of Solicitation of Applications (NOSA), published in the Federal Register, provides instructions for completing an application.

Description of Respondents: Not-for profit institutions; State, Local or Tribal Government.

Number of Respondents: 90.

Frequency of Responses: Reporting: Quarterly; Annually; Third party disclosure.

Total Burden Hours: 4,194.

Levi S. Harrell,
Departmental Information Collection Clearance Officer.

[FR Doc. 2021-15117 Filed 7-15-21; 8:45 am]

BILLING CODE 3410-XV-P